DEPARTMENT OF AGRICULTURE

Natural Resources Conservation Service

Lost River Watershed, Hardy County, WV

AGENCY: Natural Resources Conservation Service.

ACTION: Notice of intent to prepare a supplemental Environmental Impact Statement for the Lost River Subwatershed of the Potomac River Watershed Hardy County, West Virginia.

SUMMARY: Pursuant to section 102(2)(c) of the National Environmental Policy act of 1969; the Council on Environmental Quality Guidelines (40 CFR part 1500); and the Natural Resources Conservation Service Guidelines (7 CFR part 650); the Natural Resources Conservation Service (NRCS), U. S. Department of Agriculture, is giving notice that a Supplemental Environmental Impact Statement (SEIS) is being prepared for the Lost River Subwatershed of the Potomac River Watershed, Hardy County, West Virginia. The SEIS will evaluate potential impacts to the natural, physical, and human environment as a result of the flood damage reduction and water supply storage measures proposed for the Lost River Subwatershed, Hardy County, West Virginia. The NRCS is soliciting public concerns/issues to be evaluated during the study process.

FOR FURTHER INFORMATION CONTACT: Ronald L. Hilliard, State Conservationist, Natural Resources Conservation Service, 75 High Street, Room 301, Morgantown, West Virginia 26505, telephone (304) 284-7545.

SUPPLEMENTARY INFORMATION: The Lost River Work Plan and Final Environmental Impact Statement (FEIS) was prepared in October 1974 and approved for operations on February 11, 1975 under authority of the Flood Control Act, Public Law 534. The approved work plan included provisions for land treatment measures covering 94,750 acres, four single-purpose floodwater retarding impoundments, and one multiple-purpose floodwater retarding and recreation impoundment. Two of the single-purpose floodwater retarding impoundments (Site 4, Kimsey Run and Site 27, Upper Cove Run) have been installed. In March 2001, the watershed plan was amended to add 400 acre-feet of rural water supply storage as a purpose for Site 10 (Camp Branch). The impoundment at Site 10 has also been installed. Planning is underway for the fourth impoundment (Site 16, Lower Cove Run) that was originally planned as a multiple purpose floodwater retarding and recreation structure. At the request of the local sponsoring organizations, the recreation component of Site 16 has been eliminated (other than incidental recreational uses) and the purpose of rural water supply has been added for this impoundment. The final impoundment (Site 23, Culler Run) has been determined not feasible due to engineering and geological concerns and will be eliminated as a component of the Lost River Watershed Project. Other alternatives originally considered to achieve the project purposes in the 1974 Plan-FEIS included land treatment, flood proofing, flood insurance, floodplain purchase, stream channel modification, diking, and various combinations thereof. Also considered was the “no project” alternative.

Alternatives to be addressed in the Draft Supplemental Environmental Impact Statement (DSEIS) include the 1974 baseline conditions, the No-further Action Alternative, and Alternative 1. Alternative 1 includes constructing Site 16 for floodwater retention and rural water supply, and deleting Site 23 (Cullers Run) from the Plan.

The environmental assessment of this federally assisted action indicates that the project may cause significant local, regional, or national impacts on the environment. As a result of these findings, Ronald L. Hilliard, State Conservationist, has determined that the preparation and review of a SEIS is needed for this project. Since impounded water may inundate a small portion of National Forest System Land, the U. S. Forest Service is a cooperating agency.

A DSEIS will be prepared and circulated for review by agencies and the public. The NRCS invites participation and consultation of agencies and individuals that have special expertise, legal jurisdiction, or interest in the preparation of the DSEIS. Meetings may be scheduled upon the request of agencies or individuals to discuss the proposed action. Further information on the proposed action may be obtained from Ronald L. Hilliard, State Conservationist, at the above address, or telephone (304-284-7545).

Dated: March 30, 2006.
Ronald L. Hilliard,
State Conservationist.

[FR Doc. E6-5187 Filed 4-7-06; 8:45 am]

BILLING CODE 3410-16-P